DEPARTMENT OF AGRICULTURE

Agricultural Marketing Service

[Docket No. FV04-205]

Notice of Request for New Information Collection

AGENCY: Agricultural Marketing Service, USDA.

ACTION: Notice and request for comments.

SUMMARY: In accordance with the Paperwork Reduction Act of 1995 (44 U.S.C. Chapter 35), this notice announced the agricultural Marketing Service's (AMS) intention to request a new information collection: Fruit and Vegetable market News Survey link on Web site.

DATES: Comments received by August 23, 2004 will be considered.

ADDITIONAL INFORMATION OR COMMENTS: Contact Terry C. Long, Chief; Fruit and Vegetable Market News Branch, Fruit and Vegetable Programs, AMS-USDA, 1400 Independence Avenue, SW., Stop-0238, Washington, DC 20250-0238; Telephone: (202) 720-2175, Fax: (202) 720-0547. All comments will be available for public inspection at this address during the hours of 8 a.m. to 4 p.m. Monday through Friday.

SUPPLEMENTARY INFORMATION: Title: Fruit and Vegetable Market News Survey.

OMB Number: 0581-New.

Expiration Date of Approval: 3 years from date of OMB approval.

Type of Request: New information collection.

Abstract: The Agricultural Marketing Act of 1946 (7 U.S.C. 1621 et seq.), section 203(g) directs and authorizes the collection and dissemination of marketing information including adequate outlook information, on a market area basis, for the purpose of anticipating and meeting consumer requirements, aiding in the maintenance of farm income and to bring about a balance between production and utilization. Market News provides all interested segments of the market chain with timely, accurate information from an unbiased third party. Market News has been given additional resources to expand its global marketing reporting, and seeks input from the fruit and vegetable industry in order to best meet their needs.

The information collection requirements in this request are needed for the improvement and expansion of information and services of international markets of interest to the public. Information includes but is not limited to, a firm's level of interest in international marketing; specified regions of the world, countries and products of greatest interest in other services such as currency, metric and language conversions. Fruit and Vegetable Market News intends to post a brief survey on its Web site regarding international markets and marketing of fruits and vegetables abroad. Participation in this international markets survey is voluntary, and information gathered will be confidential.

Response to the Fruit and Vegetable Market News survey will help establish a focus in the Branch's efforts to expand global market reporting. The survey will provide a forum for the fruit and vegetable industry to share their specific interests in international markets so that Market News can best meet their needs. A Web site link to the Fruit and Vegetable Market News survey provides an easy method of gathering information to assess our global market reporting needs. Participants will only be able to access the survey via the Market News Web site, however, they have the option to submit the survey electronically, facsimile or by mail.

The fruit and vegetable market news reports are used by academia, but are primarily used by the fruit, vegetable and ornamental trade, which includes packers, processors, brokers, retailers, and producers. The fruit and vegetable industry requested that the Department of Agriculture issue price and supply market reports for commodities of regional, national and international significance in order to assist them in making immediate production and marketing decisions and as a guide to the amount of product in the supply channel.

All users of the Market News Web site will be able to access the Fruit and Vegetable Market News survey through a direct link for 120 days. Participants will not be required to identify themselves.

Estimate of Burden: Public reporting burden for this collection of information is estimated to average .05 hours per response.

Respondents: Fruit, vegetable, and ornamental industry, or other for-profit businesses, individuals or households, farms.

Estimated Number of Respondents: 500.

Estimated Number of Responses per Respondent: 1.

Estimated Total Annual Burden on Respondents: 25.

Comments are invited on: (12) Whether the proposed collection of information is necessary for the proper performance of the functions of the agency, including whether the information will have practical utility; (2) the accuracy of he agency's estimate of the burden of the proposed collection of information, including the validity of the methodology and assumptions used; (3) ways to enhance the quality, utility, and clarity of the information to be collected; and (4) ways to minimize the burden of the collection of information on those who are to respond, including through the use of appropriate automated, electronic, mechanical,or other technological collection techniques or other forms of information technology. Comments may be sent to: Terry C.Long, Chief, Fruit and Vegetable Market News Branch, Fruit and Vegetable Programs, AMS-USDA, 1400 Independence Avenue, SW, Stop-0238, Washington, DC 20250-0238.

All responses to this notice will be summarized and included in the request for OMB approval. All comments will also become a matter of public record.

Dated: June 16, 2004.
A.J. Yates,
Administrator, Agricultural Marketing Service.

[FR Doc. 04-14058 Filed 6-21-04; 8:45 am]

BILLING CODE 3410-02-M